DEPARTMENT OF DEFENSE

Department of the Navy

Notice of Public Meeting on the Draft Environmental Impact Statement for Basewide Water Infrastructure and Stuart Mesa Bridge Replacement at Marine Corps Base Camp Pendleton, CA

AGENCY: Department of the Navy, DoD.

ACTION: Notice.

SUMMARY: Pursuant to Section (102)(2)(c) of the National Environmental Policy Act of 1969 (NEPA) (42 United States Code [U.S.C.] Sections 4321-4370h); the Council on Environmental Quality (CEQ) regulations for implementing the procedural provisions of NEPA (Title 40 Code of Federal Regulations (CFR) parts 1500-1508); Department of the Navy Procedures for Implementing NEPA (32 CFR part 775); and Marine Corps NEPA directives (Marine Corps Order P5090.2A), the Marine Corps (USMC) has prepared and filed with the U.S. Environmental Protection Agency (EPA) a Draft Environmental Impact Statement (EIS) that evaluates the potential environmental consequences that may result from implementing the Basewide Water Infrastructure and Stuart Mesa Bridge Replacement projects at Marine Corps Base Camp Pendleton (MCBCP). The proposed action would involve the construction, operation, and maintenance of infrastructure upgrades, expansions, and improvements to the Basewide water system and replacement of a critical link in the Base roadway system. The projects would include a northern Advanced Water Treatment (AWT) plant and associated facilities, connection of the Base's northern and southern water systems, and replacement of the bridge on Stuart Mesa Road over the Santa Margarita River (Stuart Mesa Bridge). A Notice of Intent to prepare this EIS was published in the Federal Register on March 31, 2010 (Vol. 75, No. 61, p. 16080).

With the filing of the Draft EIS, the Department of the Navy (DoN) is initiating a 45-day public comment period and has scheduled a public open house meeting to receive oral and written comments on the Draft EIS. Federal, State, and local agencies and interested individuals are invited to be present or represented at the public meeting. This notice announces the date and location of the public meeting, and supplementary information about the environmental planning effort.

DATES: The Draft (EIS) public review period will begin December 2, 2011, and end on January 17, 2012. The USMC is holding an informational open house style public meeting to inform the public about the proposed action and the alternatives under consideration, and to provide an opportunity for the public to comment on the Draft EIS. USMC and DoN representatives will be on hand to discuss the proposed action, the NEPA process and the findings presented in the Draft EIS. The meeting will be held from 5:30 p.m. to 8:30 p.m. in the Ole Hanson Fireside Room at the San Clemente Community Center, 100 North Calle Seville, San Clemente, California 92672 on January 5, 2012. The Draft EIS was distributed to Federal, State, and local agencies, elected officials, and other interested parties and individuals on December 2, 2011. The document can be viewed online and downloaded from www.marines.mil/unit/basecamppendleton/Pages/BaseStaffandAgencies/Environmental/EAEIS/Home.aspx.

Copies of the Draft EIS are available for public review at the following public libraries: Oceanside Civic Center Library, 330 North Coast Highway, Oceanside, California 92054; San Clemente Library, 242 Avenida del Mar, San Clemente, California 92672; and Fallbrook Branch, San Diego County Public Library, 124 S. Mission Road, Fallbrook, California 92028.

A copy of the Draft EIS will be made available upon written request to Mr. Jesse Martinez, Naval Facilities Engineering Command (NAVFAC) Southwest, 1220 Pacific Highway, San Diego, CA 92132-5190, (619) 532-3844.

Comments

Attendees will be able to submit written comments at the public meeting; a stenographer will also be present to transcribe oral comments. Equal weight will be given to oral and written statements. Comments may be mailed to Mr. Jesse Martinez, NAVFAC Southwest, 1220 Pacific Highway, San Diego, CA 92132-5190. Comments may be submitted during the 45-day public review period. All comments must be postmarked or electronically dated on or before January 17, 2012, to be sure they become part of the public record. All statements, oral transcription and written, submitted during the public review period will become part of the public record on the Draft EIS and will be responded to in the Final EIS.

FOR FURTHER INFORMATION CONTACT: Mr. Jesse Martinez, NAVFAC Southwest, (619) 532-3844. Please submit requests for special assistance, sign language interpretation for the hearing impaired, or other auxiliary aids at the public meeting to Mr. Martinez.

SUPPLEMENTARY INFORMATION: The proposed action evaluated in the Draft EIS is the construction and operation, including maintenance, of three infrastructure projects entirely within MCBCP and funded by Military Construction (MILCON) program appropriation. These projects include an advanced water treatment plant and associated facilities in the northern part of the Base (MILCON Project Number P-1044); connection of the Base's northern and southern water systems (P-1045); and replacement of the Stuart Mesa Bridge over the Santa Margarita River and associated roadway/flood control improvements (P-1039). Each project is a separate, distinct, and independently complete and usable action. Full environmental analyses for four action alternatives, and a No Action Alternative are presented in the Draft EIS.

Purpose and Need

The proposed action is needed to modernize and expand the capacity and capability of MCBCP's aging (1960s era) potable water system and roadway infrastructure.

The current potable water piping and treatment system is outdated and undersized. Higher quality drinking water through advanced water treatment is needed in the northern portion of the Base because the current water treatment processes do not meet the secondary drinking water standards for total dissolved solids and may not meet the pending Federal Safe Drinking Water Act Stage 2 Disinfectant Byproducts Rule. In addition, the two Base water systems, the northern system and the southern system, are not connected. The independent systems have resulted in service interruptions to portions of the Base during maintenance and natural disasters.

In the case of the roadway system, the Stuart Mesa Bridge, together with nearby roadway segments and the adjacent intersection of Stuart Mesa Road and Vandegrift Boulevard, represents a critical roadway connection on the main internal north-south connector in the southern and western portions of MCBCP. The roadway link has been severed in the past by flooding, underscoring the need for an all-weather solution.

The purpose of the proposed action is to enhance the ability of MCBCP to efficiently meet its mission by developing new or upgraded, reliable, and compliant infrastructure systems necessary to sustain military training and operations and quality of life services on MCBCP. The purpose is to provide: (1) Improved water treatment capabilities, capacity, and drinking water system redundancy to deliver higher quality water in the north; (2) water security and a connected, more comprehensive system for the delivery of Basewide water services during periods of scheduled, unscheduled, and emergency system interruption; and (3) improved traffic flow and efficient all-weather traffic accessibility to key training and non-training areas in the southern portion of MCBCP that are now severed during periodic flooding in the vicinity of the Stuart Mesa Bridge.

Alternatives

The EIS evaluates three MILCON projects (P-1044, P-1045, and P-1039) and four alternatives for each MILCON for a total of 12 action alternatives. As the environmental and engineering assessment developed for the proposed action, a combination of alternatives were identified as the preferred alternative based on operational, environmental, economic, and military sustainability reasons. The preferred alternatives are P-1044 Alternative 1; P-1045 Alternative 3; and P-1039 Alternative 4. Each is identified and discussed below.

Advanced Water Treatment (AWT) North and Associated Facilities (MILCON P-1044). Four alternatives involving a combination of two AWT plant sites and two pipeline routes were evaluated. All alternatives include construction of an 8.6 million gallon per day AWT facility, new and replacement water lines, pump stations with emergency generators, connection to existing reservoirs and distribution system, a brine disposal system, and plant access improvements. Raw water, treated water, and brine would be conveyed via new proposed lines. Raw water lines would extend from the existing wells to the AWT facility. Treated water lines would extend from the AWT facility to the west to serve the San Onofre Housing Areas and the 51 Area (San Onofre), 62 Area (San Mateo), 63 Area (Cristianitos), 64 Area (Talega), 52 Area (School of Infantry), and 53 Area (Horno). Trenchless construction to extend lines beneath San Onofre Creek and San Mateo Creek or suspension of the pipelines over the creeks would be incorporated to minimize impacts. Following water treatment at the AWT, brine would be disposed via ocean outfall and injection wells. The ocean outfall disposal would use the existing decommissioned San Onofre Nuclear Generating Station (SONGS) 12-foot-diameter, 3,200-foot-long cooling water intake structure located on the Pacific Ocean floor. Two deep injection well fields (approximately 750 feet deep) would also be used. One would be located at the existing San Onofre percolation ponds and the other would be located northwest of the San Onofre Surf Beach area of San Onofre State Beach. The proposed AWT facility would include micro-filtration and liquid granulated activated carbon/reverse osmosis.

Alternative 1 (Preferred Alternative). Under this alternative the AWT facility would be constructed at a location south of San Onofre Creek. A portion of the conveyance lines would be located within Basilone Road. The brine disposal line would extend from the AWT facility to the south to connect to the proposed injection wells and to the existing SONGS ocean intake pipeline. The line to SONGS would extend beneath Interstate-5 (I-5) via trenchless construction.

Alternative 2. Under this alternative, raw water, treated water, and brine would be conveyed via three proposed new pipelines located primarily in El Camino Real instead of Basilone Road as proposed under Alternative 1.

Alternative 3. Under this alternative, the AWT facility would be located south of Basilone Road. Water conveyance pipelines would be the same as Alternative 1.

Alternative 4. Under this alternative, the AWT facility would be located south of Basilone Road. Water conveyance pipelines would be the same as Alternative 2.

Connection of North and South Water Systems (MILCON P-1045). Four alternatives involving different pipeline routes were evaluated.

Alternative 1. Under this alternative, approximately 188,000 linear feet (LF) of potable water lines sized up to 36 inches in diameter would connect the northern and southern water systems of MCBCP. The water line would start at the new AWT North facility (P-1044) and extend south on an alignment using El Camino Real to Stuart Mesa Road. Dividing at the junction of Stuart Mesa Road and Las Pulgas Road, one branch would run north along Las Pulgas Road to an existing reservoir in the 43 Area (Las Pulgas). This lateral pipeline would be approximately 10 to 14 inches in diameter. The other branch would continue along Stuart Mesa Road before splitting again into two more branches. One of these branches would extend northeast on the west side of the Santa Margarita River along North River Road, passing east of the 32 Area (Marine Air Control Squadron-1) and 33 Area (Margarita) and west of the 23 Area (Marine Corps Air Station Camp Pendleton) to Basilone Road and on to connect to the AWT South facility at Haybarn Canyon as well as several reservoirs along a ridge above the AWT South. The second branch would continue south along Stuart Mesa Road, crossing under or suspending over the Santa Margarita River and then north along Vandegrift Boulevard to an existing pump station and several existing reservoirs in the Wire Mountain area. The construction and operation of a new 4-million-gallon water reservoir in the Wire Mountain area is proposed along with associated water line connections to serve the new Naval Hospital Camp Pendleton (currently under construction) and the 21 Area (Del Mar). The pipelines would use trenchless construction under or suspended over San Onofre Creek, Las Flores Creek, Aliso Canyon drainage, French Creek, and two locations on the Santa Margarita River to avoid impacts to these areas. The project would also include the construction and operation of three pump stations along the alignment. Maintenance access/recreation corridors could also be included.

Alternative 2. The proposed north-south pipeline would start at the new AWT North facility (P-1044) and extend south in El Camino Real to Las Pulgas Road and run north in Las Pulgas Road to Basilone Road. The water line would extend along Basilone Road to Vandegrift Boulevard and run east to connect to the AWT South at Haybarn Canyon as well as several reservoirs along a ridge above the AWT South. This alternative would require an additional pump station and would be approximately 165,000 LF.

Alternative 3 (Preferred Alternative). This alternative would be similar to Alternative 1 except it would not include the segment on the west side of the Santa Margarita River along North River Road. The new 4-million-gallon water reservoir and connections to the new Naval Hospital Camp Pendleton and the 21 Area (Del Mar) would be included. This alternative would be approximately 137,000 LF.

Alternative 4. This alternative would be similar in alignment to Alternative 3, with an additional pipe segment extending further on Vandegrift Boulevard east of the 22 Area (Chappo) before connecting to the AWT South at Haybarn Canyon as well as several reservoirs along a ridge above the AWT South. This alternative would be approximately 179,000 LF.

Stuart Mesa Bridge Replacement and Flood Control Improvements (P-0139). Four alternatives including a combination of two flood control methods and the use of a temporary bridge during construction were evaluated. All alternatives include demolition of the existing Stuart Mesa Bridge and construction of a new four lane bridge and flood protection measures.

Alternative 1. Construction would consist of a new cast-in-place prestressed concrete bridge (approximately 1,200 feet long by 56 feet wide) with pile foundations, new approach road and bridge abutments, earthwork and grading, rock protection and revetment, bridge deck, guard rails, night lighting, asphalt pavement, and pavement marking and signs. The project includes “100-year storm” flood protection control measures to protect Stuart Mesa Road and Vandegrift Boulevard. Flood control facilities consist of levees, levee scour protection, and a storm water drain system. Under this alternative, no temporary replacement bridge would be constructed over the Santa Margarita River and traffic would need to utilize alternate existing routes during construction.

Alternative 2. Under this alternative, a temporary use bridge would be constructed to allow vehicular traffic along Stuart Mesa Road to continue to cross the Santa Margarita River. Bridge construction would be the same as Alternative 1.

Alternative 3. Under this alternative, flood walls would be constructed rather than levees. The flood walls, while having a smaller construction footprint, would provide the same flood control protection. No temporary replacement bridge would be constructed over the Santa Margarita River. Bridge construction would be the same as Alternative 1.

Alternative 4 (Preferred Alternative). This alternative would be similar to Alternative 3, with the exception of a construction phase temporary use bridge, which would allow traffic along Stuart Mesa Road to continue to cross the Santa Margarita River during demolition of the existing bridge and construction of the new bridge.

Environmental Issues

The Draft EIS evaluates the potential environmental effects associated with each of the alternatives. Issues addressed include: Geology and soils, hydrology and water quality, biological resources, cultural resources, land use, visual resources, socioeconomics and environmental justice, traffic, air quality, noise, public health and safety, services and utilities, and coastal zone resources, and marine resources. Relevant and reasonable measures that could alleviate environmental effects have been considered.

Schedule

A 45-day public comment period will start upon publication of the EPA Notice of Availability in the Federal Register. Comments on the Draft EIS must be received by January 17, 2012. The DoN will consider and respond to all comments received on the Draft EIS when preparing the Final EIS. The DoN expects to issue the Final EIS in June 2012, at which time a Notice of Availability (NOA) will be published in the Federal Register and local print media. A Record of Decision is expected in August 2012.

Dated: November 29, 2011
L.R. Almand,
Alternate Federal Register Liaison Officer, Office of the Judge Advocate General, U.S. Navy.

[FR Doc. 2011-31344 Filed 12-6-11; 8:45 am]

BILLING CODE 3810-FF-P